DEPARTMENT OF THE INTERIOR

Fish and Wildlife Service

[FWS-R2-ES-2016-N203; FXES11130200000-167-FF02ENEH00]

Endangered and Threatened Wildlife and Plants; Pima Pineapple Cactus (Coryphantha scheeri var. robustispina) Draft Recovery Plan

AGENCY: Fish and Wildlife Service, Interior.

ACTION: Notice of availability; request for comment.

SUMMARY: We, the Fish and Wildlife Service (Service), announce that of our Pima pineapple cactus (Coryphantha scheeri var. robustispina) draft recovery plan is available. The cactus is listed as endangered under the Endangered Species Act of 1973, as amended (Act). This plant species is currently found in southern Arizona and in northern Sonora, Mexico. The draft recovery plan includes specific recovery objectives and criteria to be met in order to enable us to remove this species from the list of endangered and threatened wildlife and plants. We request that local, State, and Federal agencies; Tribes; and the public review and comment. We will also accept any new species status information throughout its range to assist with recovery plan finalization.

DATES: To ensure consideration, we must receive written comments on or before August 25, 2017. However, we will accept information about any species at any time.

ADDRESSES: Obtaining Documents: If you wish to review the draft recovery plan, you may obtain a copy by any one of the following methods:

Internet: Download the file at www.fws.gov/southwest/es/Documents/R2ES/CoryphanthaScheeriRobustispina_DraftRecoveryPlan_Final_February2015.pdf;

U.S. mail: Request a copy by writing to the Arizona Ecological Services Field Office, Fish and Wildlife Service, 9828 N 31st Ave. #C3, Phoenix, AZ 85051-2517; or

Telephone: Request a copy by calling (602) 242-0210.

Submitting Comments: If you wish to comment on the draft recovery plan, you may submit your comments in writing by any one of the following methods:

U.S. mail: Field Supervisor, at the above address;

Hand-delivery: Arizona Ecological Services Field Office, at the above address;

Fax: (602) 242-2513; or

Email: julie_crawford@fws.gov.

For additional information about submitting comments, see Request for Public Comments.

FOR FURTHER INFORMATION CONTACT: Steve Spangle, Field Supervisor, Arizona Ecological Services Field Office, at the above address and phone number, or by email at Steve_Spangle@fws.gov.

SUPPLEMENTARY INFORMATION:

Background

A primary goal of our endangered species program and the Act (16 U.S.C. 1531 et seq.) is endangered or threatened animals and plants recovery to the point that they are again secure, self-sustaining ecosystem members. Recovery means improving the listed species' status to the point that listing is no longer appropriate under the Act's section 4(a)(1) criteria. The Act requires recovery plans for listed species, unless such a plan would not promote conserving a particular species.

Species History

Coryphantha scheeri var. robustispina (Pima pineapple cactus) is found in lower Sonoran desert-scrubland, desert-grassland, or the ecotone between desert-scrubland and desert-grassland in southeastern Arizona and northern Sonora, Mexico. It was federally listed as endangered on September 23, 1993; critical habitat was not designated. The taxon has been found historically in Pima and Santa Cruz Counties, Arizona, and northern Sonora, Mexico, where it occupies a small area proximal to the U.S. border. Coryphantha scheeri var. robustispina is not listed under Mexican protected species regulations by the Secretaría de Medio Ambiente y Recursos Naturales. The recovery priority number for Coryphantha scheeri var. robustispina is 3C, meaning that the listed entity is a subspecies, the level of threat is high, the potential for recovery is high, and there is a conflict with some form of economic activity (urbanization). The first 5-year status review for Coryphantha scheeri var. robustispina was signed on February 8, 2007. Based on the static or declining status of the species across its range and continued threats, it was recommended in the 5-year review that the taxon remain listed as endangered.

Coryphantha scheeri var. robustispina is a small, hemispheric-to-cylindrical stem succulent perennial of the Cactaceae (cactus family). Its stems reach 5 to 46 centimeters (cm) (1.9 to 18.1 inches (in)) in height and 5 to 21 cm (1.9 to 8.3 in) in diameter, are comprised primarily of tough, fleshy pulp, and are protected by a leathery outer skin. Stems may be singular or form clumps. The surface of the stems are covered in 2 to 3 cm (0.8 to 1.2 in) long rounded projections called tubercles, each of which is grooved along the upper surface and contains one to several extra floral nectaries (places that secrete nectar to attract pollinators) along each groove. The flowers of C. scheeri var. robustispina average 6.5 cm (2.6 in) long with pale yellow tepals (petals and sepals) that are variously tinged with red pigments. Flowers generally open early to mid-July following summer rains.

Coryphantha scheeri var. robustispina occurs within two subbasins of the Santa Cruz Watershed: Brawley Wash and the Upper Santa Cruz. These subbasins face largely differing threats and stressors and are managed in differing ways. The major threats within Brawley Wash, which is managed primarily for livestock grazing, include the spread of invasive, non-native grasses and the resultant altered fire regimes and increased competition. A major threat within Upper Santa Cruz, which includes Tucson, Nogales, and the urban areas between, is urbanization. Throughout the entire range, C. scheeri var. robustispina is stressed by drought and climate change impacts, as well as predation by mammals and insects.

Plants are found on lands owned or managed by the Federal government (approximately 12 percent), State government (approximately 46 percent), Tribal government (approximately 2 percent), and private entities (approximately 40 percent). Coryphantha scheeri var. robustispina is typically found widely spaced in the landscape. A total of 6,712 individuals have been documented in our files from surveys of 43,072 hectares (106,433 acres) of suitable habitat. Similarly, as of the summer of 2015, the Arizona Natural Heritage Program database of locations for this taxon consisted of 7,558 records, of which 1,837 were known to no longer exist, primarily due to development and not natural causes.

The principal C. scheeri var. robustispina recovery strategy is to preserve and restore quality habitat to protect individuals and their seedbanks within two recovery units representing the range of the taxon. Providing conservation and restoration of the taxon and its habitat will allow a stable, self-sustaining population to persist with some level of connectivity and opportunities for expansion and dispersal.

Recovery Plan Goals

The objective of a recovery plan is to provide a framework for the recovery of a species so that protection under the Act is no longer necessary. A recovery plan includes scientific information about the species and provides criteria and actions necessary for us to be able to reclassify the species to threatened status or remove it from the List of Endangered and Threatened Plants (List) at 50 CFR 17.12(h). Recovery plans help guide our recovery efforts by describing actions we consider necessary for the species' conservation, and by estimating time and costs for implementing needed recovery measures. To achieve its goals, this draft recovery plan identifies the following objectives:

1. Threat-based objective: Reduce or mitigate habitat loss and degradation, non-native species spread and the resultant altered fire regimes and increased competition, and other stressors, to enhance the continued survival of C. scheeri var. robustispina and its pollinators.

2. Habitat-based objective: Conserve, restore, and properly manage the quantity and quality of habitat needed for the continued survival of C. scheeri var. robustispina and its pollinators.

3. Population-based objective: Conserve, protect, and restore existing and newly discovered C. scheeri var. robustispina individuals and their associated seedbanks needed for the continued survival of the taxon. The population must be self-sustaining, of sufficient number to endure climatic variation, stochastic events, and catastrophic losses, and must represent the full range of the species' geographic and genetic variability.

The draft recovery plan focuses on conserving and enhancing habitat quality, protecting the population, managing threats, monitoring progress, and building partnerships to facilitate recovery. When the recovery of C. scheeri var. robustispina approaches these criteria, we will review the species' status and consider downlisting, and, ultimately, removal from the List.

Request for Public Comments

Section 4(f) of the Act requires us to provide public notice and an opportunity for public review and comment during recovery plan development. It is also our policy to request peer review of recovery plans (July 1, 1994; 59 FR 34270). In an appendix to the approved recovery plan, we will summarize and respond to the issues raised by the public and peer reviewers. Substantive comments may or may not result in changes to the recovery plan; comments regarding recovery plan implementation will be forwarded as appropriate to Federal or other entities so that they can be taken into account during the course of implementing recovery actions. Responses to individual commenters will not be provided, but we will provide a summary of how we addressed substantive comments in an appendix to the approved recovery plan.

We invite written comments on the draft recovery plan. In particular, we are interested in additional information regarding the current threats to the species and the costs associated with implementing the recommended recovery actions.

Before we approve our final recovery plan, we will consider all comments we receive by the date specified in DATES. Methods of submitting comments are in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

References Cited

A complete list of all references cited herein is available upon request from the Arizona Ecological Services Office (see FOR FURTHER INFORMATION CONTACT).

Authority

We developed our draft recovery plan under the authority of section 4(f) of the Act, 16 U.S.C. 1533(f). We publish this notice under section 4(f) Endangered Species Act of 1973, as amended (16 U.S.C. 1531 et seq.).

Dated: December 15, 2016.
Benjamin N. Tuggle,
Regional Director, Southwest Region, U.S. Fish and Wildlife Service.

Editorial Note: The Office of the Federal Register received this document on June 21, 2017.

[FR Doc. 2017-13309 Filed 6-23-17; 8:45 am]

BILLING CODE 4333-15-P